DEPARTMENT OF ENERGY

Federal Energy Regulatory Commission

[Docket No. CP09-414-000]

Natural Gas Pipeline Company of America LLC; Notice of Request Under Blanket Authorization

June 2, 2009.

Take notice that on May 19, 2009, Natural Gas Pipeline Company of America LLC (Natural), 3250 Lacey Road, Suite 700, Downers Grove, Illinois 60515, filed in the above Docket, a prior notice request pursuant to sections 157.205, 157.208 and 157.213 of the Commission's regulations under the Natural Gas Act (NGA) for authorization to: (i) Convert up to 5 billion cubic feet (Bcf) of cushion gas to working gas over a three-year term period (2009 though 2011) which will allow Natural to provide an additional five Bcf of Nominated Storage Service to its shippers; (ii) increase the maximum certificated withdrawal capacity from 600 million standard cubit feet per day (MMscf/d) to 667 MMscf/d; and (iii) install over pressure protection equipment at Natural's Sayre Storage field in Beckham County, Oklahoma. All as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Russell Frame, Engineer, Gas Storage, Natural Gas Pipeline Company of America LLC, 3250 Lacey Road, 7th floor, Downers Grove, Illinois 60515 at (630) 725-3827.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E9-13366 Filed 6-8-09; 8:45 am]

BILLING CODE 6717-01-P